DEPARTMENT OF TRANSPORTATION

Federal Highway Administration

Notice To Rescind a Notice of Intent to Prepare a Tiered Environmental Impact Statement

AGENCY: Federal Highway Administration (FHWA), DOT.

ACTION: Notice to Rescind a Notice of Intent to Prepare a Tiered Environmental Impact Statement.

SUMMARY: The FHWA is issuing this notice to advise the public and other agencies that the Notice of Intent published January 16, 2009, DOCID: fr16ja09-155, to prepare a tiered EIS for the Northwest Loop in Sandoval and Bernalillo Counties, New Mexico, is being rescinded.

FOR FURTHER INFORMATION CONTACT: Mr. Greg Heitmann, Environmental Specialist, Federal Highway Administration, New Mexico Division Office, 4001 Office Court Drive, Suite 801, Santa Fe, NM 87507 Telephone (505) 820-2027.

SUPPLEMENTARY INFORMATION: The scope of the project has been adjusted to include only the construction of a 2-lane all-weather roadway within existing right-of-way owned by Sandoval County.

The project will begin 3.06 miles north of the Bernalillo County line and extend north for 2.12 miles to Alice King Way. The proposed roadway will consist of two 12-ft driving lanes and 3.7-ft shoulders. The roadway will have a gravel surface and will be designed to meet a design speed of 50 miles per hour. Drainage improvements will be provided where the roadway crosses existing water flows.

Pursuant to the National Environmental Policy Act, as amended, FHWA, in cooperation with the NMDOT, is preparing a categorical exclusion for the proposed improvements. While hard copy comments are preferred, comments by electronic mail may be sent to Greg.Heitmann@dot.gov.

(Catalog of Federal Domestic Assistance Program Number 20.205, Highway Planning and Construction. The regulations implementing Executive Order 12372 regarding intergovernmental consultation on Federal programs and activities apply to this program.)

Issued on March 30, 2011.
J. Don Martinez,
Division Administrator, Federal Highway Administration, Santa Fe, New Mexico.

[FR Doc. 2011-9124 Filed 4-14-11; 8:45 am]

BILLING CODE 4910-22-P